DEPARTMENT OF ENERGY

Federal Energy Regulatory Commission

Combined Notice of Filings #1

Take notice that the Commission received the following exempt wholesale generator filings:

Docket Numbers: EG24-95-000.

Applicants: Altona Solar, LLC.

Description: Altona Solar, LLC submits Notice of Self-Certification of Exempt Wholesale Generator Status.

Filed Date: 1/26/24.

Accession Number: 20240126-5220.

Comment Date: 5 p.m. ET 2/16/24.

Docket Numbers: EG24-96-000.

Applicants: BCD 2024 Fund 2 Lessee, LLC.

Description: BCD 2024 Fund 2 Lessee, LLC submits Notice of Self-Certification of Exempt Wholesale Generator Status.

Filed Date: 1/26/24.

Accession Number: 20240126-5222.

Comment Date: 5 p.m. ET 2/16/24.

Docket Numbers: EG24-97-000.

Applicants: Serrano Solar, LLC.

Description: Serrano Solar, LLC submits Notice of Self-Certification of Exempt Wholesale Generator Status.

Filed Date: 1/29/24.

Accession Number: 20240129-5164.

Comment Date: 5 p.m. ET 2/20/24.

Take notice that the Commission received the following electric rate filings:

Docket Numbers: ER10-1346-009.

Applicants: Frederickson Power L.P.

Description: Notice of Non-Material Change in Status of Frederickson Power L.P.

Filed Date: 1/25/24.

Accession Number: 20240125-5208.

Comment Date: 5 p.m. ET 2/15/24.

Docket Numbers: ER10-2502-012; ER10-2472-010; ER10-2473-011; ER11-2724-011; ER11-4436-010; ER18-2518-006; ER19-645-005.

Applicants: Black Hills Colorado Wind, LLC, Black Hills Electric Generation, LLC, Black Hills Power, Inc., Black Hills Colorado IPP, LLC, Cheyenne Light, Fuel and Power Company, Black Hills Wyoming, LLC, Black Hills Colorado Electric, LLC.

Description: Notice of Non-Material Change in Status of Black Hills Colorado Electric, LLC, et al.

Filed Date: 1/26/24.

Accession Number: 20240126-5233.

Comment Date: 5 p.m. ET 2/16/24.

Docket Numbers: ER11-2534-011.

Applicants: Morris Cogeneration, LLC.

Description: Notice of Non-Material Change in Status of Morris Cogeneration, LLC.

Filed Date: 1/29/24.

Accession Number: 20240129-5150.

Comment Date: 5 p.m. ET 2/20/24.

Docket Numbers: ER11-2539-008; ER11-2540-008; ER11-2542-008.

Applicants: Rathdrum Power, LLC, Plains End II, LLC, Plains End, LLC.

Description: Notice of Change in Status of Plains End, LLC, et al.

Filed Date: 1/29/24.

Accession Number: 20240129-5155.

Comment Date: 5 p.m. ET 2/20/24.

Docket Numbers: ER11-2765-007; ER12-2310-009.

Applicants: Zephyr Wind, LLC, Elk Wind Energy LLC.

Description: Notice of Non-Material Change in Status of Elk Wind Energy LLC, et al.

Filed Date: 1/26/24.

Accession Number: 20240126-5226.

Comment Date: 5 p.m. ET 2/16/24.

Docket Numbers: ER12-2676-002.

Applicants: Piedmont Green Power, LLC.

Description: Notice of Non-Material Change in Status of Piedmont Green Power, LLC.

Filed Date: 1/25/24.

Accession Number: 20240125-5209.

Comment Date: 5 p.m. ET 2/15/24.

Docket Numbers: ER17-2341-010; ER15-1218-015; ER15-2224-006; ER16-38-013; ER16-39-012; ER17-157-007; ER17-2453-009; ER18-713-008; ER18-1775-006; ER23-2294-001.

Applicants: Vikings Energy Farm LLC, 64KT 8me LLC, CA Flats Solar 150, LLC, Imperial Valley Solar 3, LLC, Moapa Southern Paiute Solar, LLC, Kingbird Solar B, LLC, Kingbird Solar A, LLC, Solar Star Colorado III, LLC, Solar Star California XIII, LLC, CA Flats Solar 130, LLC.

Description: Notice of Non-Material Change in Status of CA Flats Solar 130, LLC, et al.

Filed Date: 1/29/24.

Accession Number: 20240129-5144.

Comment Date: 5 p.m. ET 2/20/24.

Docket Numbers: ER20-242-005; ER20-245-005; ER20-246-005.

Applicants: Windhub Solar A, LLC, Sun Streams, LLC, Sunshine Valley Solar, LLC.

Description: Notice of Change in Status of Sunshine Valley Solar, LLC, et al.

Filed Date: 1/26/24.

Accession Number: 20240126-5224.

Comment Date: 5 p.m. ET 2/16/24.

Docket Numbers: ER20-391-009; ER21-2557-004; ER22-2662-004; ER22-2663-004; ER22-2664-004; ER23-1275-002; ER23-1276-002; ER23-1277-002.

Applicants: Aron Energy Prepay 23 LLC, Aron Energy Prepay 22 LLC, Aron Energy Prepay 21 LLC, Aron Energy Prepay 16 LLC, Aron Energy Prepay 15 LLC, Aron Energy Prepay 14 LLC, Aron Energy Prepay 5 LLC, J. Aron & Company LLC.

Description: Notice of Non-Material Change in Status of J. Aron & Company LLC, et al.

Filed Date: 1/26/24.

Accession Number: 20240126-5223.

Comment Date: 5 p.m. ET 2/16/24.

Docket Numbers: ER23-1582-001; ER23-2432-001.

Applicants: Misenheimer Solar LLC, Crooked Lake Solar, LLC.

Description: Notice of Non-Material Change in Status of Crooked Lake Solar, LLC, et al.

Filed Date: 1/25/24.

Accession Number: 20240125-5207.

Comment Date: 5 p.m. ET 2/15/24.

Docket Numbers: ER23-2812-002.

Applicants: PJM Interconnection, L.L.C.

Description: Tariff Amendment: Amendment to Filing, Original ISA, SA No. 7065 to be effective 8/11/2023.

Filed Date: 1/26/24.

Accession Number: 20240126-5167.

Comment Date: 5 p.m. ET 2/16/24.

Docket Numbers: ER24-100-001.

Applicants: Adams Solar LLC.

Description: Notice of Non-Material Change in Status of Adams Solar LLC.

Filed Date: 1/29/24.

Accession Number: 20240129-5149.

Comment Date: 5 p.m. ET 2/20/24.

Docket Numbers: ER24-1026-000.

Applicants: Pixelle Androscoggin LLC.

Description: Notice of Cancellation of Market Based Rate Tariff of Pixelle Androscoggin LLC.

Filed Date: 1/25/24.

Accession Number: 20240125-5211.

Comment Date: 5 p.m. ET 2/15/24.

Docket Numbers: ER24-1027-000.

Applicants: Pixelle Energy Services LLC.

Description: Notice of Cancellation of Market Based Rate Tariff of Pixelle Energy Services LLC.

Filed Date: 1/25/24.

Accession Number: 20240125-5212.

Comment Date: 5 p.m. ET 2/15/24.

Docket Numbers: ER24-1028-000.

Applicants: Southwest Power Pool, Inc.

Description: Notice of Cancellation of Generator Interconnection Agreement of Southwest Power Pool, Inc.

Filed Date: 1/29/24.

Accession Number: 20240129-5031.

Comment Date: 5 p.m. ET 2/20/24.

Docket Numbers: ER24-1029-000.

Applicants: Midcontinent Independent System Operator, Inc.

Description: § 205(d) Rate Filing: 2024-01-29_Schedule 31 Annual Update Filing to be effective 4/1/2024.

Filed Date: 1/29/24.

Accession Number: 20240129-5051.

Comment Date: 5 p.m. ET 2/20/24.

Docket Numbers: ER24-1030-000.

Applicants: Arizona Public Service Company.

Description: § 205(d) Rate Filing: Service Agreement No. 406—Amendment No. 3 to be effective 3/30/2024.

Filed Date: 1/29/24.

Accession Number: 20240129-5055.

Comment Date: 5 p.m. ET 2/20/24.

Docket Numbers: ER24-1031-000.

Applicants: Southwest Power Pool, Inc.

Description: § 205(d) Rate Filing: 3929 Twelvemile Energy Surplus Interconnection GIA Cancel to be effective 1/7/2024.

Filed Date: 1/29/24.

Accession Number: 20240129-5065.

Comment Date: 5 p.m. ET 2/20/24.

Docket Numbers: ER24-1033-000.

Applicants: FirstEnergy Pennsylvania Electric Company, PJM Interconnection, L.L.C.

Description: Tariff Amendment: FirstEnergy Pennsylvania Electric Company submits tariff filing per 35.15: FE PA submits Cancellation of IAs, SA Nos. 5327, 6623 and 6635 re: FE Reorg to be effective 1/1/2024.

Filed Date: 1/29/24.

Accession Number: 20240129-5089.

Comment Date: 5 p.m. ET 2/20/24.

Docket Numbers: ER24-1034-000.

Applicants: FirstEnergy Pennsylvania Electric Company, PJM Interconnection, L.L.C.

Description: § 205(d) Rate Filing: FirstEnergy Pennsylvania Electric Company submits tariff filing per 35.13(a)(2)(iii: FE PA submits Amended IA, SA No. 4161 re: FirstEnergy Reorganization to be effective 1/1/2024.

Filed Date: 1/29/24.

Accession Number: 20240129-5120.

Comment Date: 5 p.m. ET 2/20/24.

Docket Numbers: ER24-1035-000.

Applicants: 20SD 8me LLC.

Description: Baseline eTariff Filing: 20SD 8me LLC MBR Tariff to be effective 2/1/2024.

Filed Date: 1/29/24.

Accession Number: 20240129-5124.

Comment Date: 5 p.m. ET 2/20/24.

Docket Numbers: ER24-1038-000.

Applicants: FirstEnergy Pennsylvania Electric Company, PJM Interconnection, L.L.C.

Description: § 205(d) Rate Filing: FirstEnergy Pennsylvania Electric Company submits tariff filing per 35.13(a)(2)(iii: FE PA submits Amended IA, SA No. 4337 re: FirstEnergy Reorganization to be effective 1/1/2024.

Filed Date: 1/29/24.

Accession Number: 20240129-5158.

Comment Date: 5 p.m. ET 2/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 29, 2024.
Debbie-Anne A. Reese,
Acting Secretary.

[FR Doc. 2024-02102 Filed 2-1-24; 8:45 am]

BILLING CODE 6717-01-P